DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by April 15, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Electric System Emergency Restoration Plan.

OMB Control Number: 0572-0140.

Summary of Collection: The Rural Utilities Service (RUS) is uniquely coupled with the electric infrastructure of rural America and its electric borrowers serving rural America because a substantial portion of the electric infrastructure of the United States resides in, and is maintained by, rural America. To ensure that the electric infrastructure in rural America is adequately protected, RUS requires that all electric borrowers conduct a Vulnerability and Risk Assessment (VRA) of their respective systems and utilize the results of this assessment to enhance an existing\Emergency Restoration Plan (ERP) or create an ERP.

The items covered in this information collection package are received from RUS electric program distribution, generation, and transmission borrowers, who are required by 7 CFR 1730.27 and 1730.28 to identify critical assets and develop an Emergency Restoration Plan (ERP). The ERP details how borrowers will restore systems in the event of a system-wide outage resulting from a major natural or man-made disaster or other causes. The ERP also includes preventative measures for emergency recovery from physical and cyber-attacks to the borrower's electric systems and addresses Homeland Security concerns.

Need and Use of the Information: Electric borrowers maintain an ERP as part of prudent utilities practices. These ERPs are essential to continuous operation of the electric systems. 7 CFR 1730.26(b) requires that each electric applicant develop an ERP that is approved and signed by the applicant's Manager or Chief Executive Officer and approved by the applicant's Board of Directors. Applicants for new RUS electric loans, loan guarantees, or grants must include the written certification of an ERP in the application package submitted to RUS. If the self-certification of an ERP is not received, approval of the loan, loan guarantees, or grants will not be considered until the certification is received by RUS.

Description of Respondents: Not-for-profit institutions.

Number of Respondents: 41.

Frequency of Responses: Reporting: Annually.

Total Burden Hours: 21.

Rural Utilities Service

Title: 7 CFR part 1752, Special Servicing of Telecommunication Programs Loans for Financially Distressed Borrowers.

OMB Control Number: 0572-0153.

Summary of Collection: The Rural Utilities Service (RUS or the Agency) Telecommunications Program (Program) provides loan funding to build and expand broadband and telecommunications services into unserved and underserved rural communities, along with very limited funding to support the costs to acquire equipment to provide distance learning and telemedicine service. RUS published a Final rule codifying a new servicing regulation on February 25, 2020 in the Federal Register which outlines policies for servicing actions associated with distressed borrowers from the Telecommunications Infrastructure Loan Program, Rural Broadband Program, Distance Learning and Telemedicine Program, Broadband Initiatives Program, and Rural e-Connectivity Pilot Program. The purpose of the regulation is to streamline servicing actions, improve the government's recovery on such loans, and improve customer service.

Need and Use of the Information: The information collection addresses RD's expanded authority, with the codification of the rulemaking, to address servicing actions. RD considers it imperative to use the expanded authority for servicing actions associated with the RUS Telecommunications Programs in order to: (1) maximize risk management of loan portfolio; (2) reduce duplication of effort between Federal agencies, which may expedite servicing of distressed borrowers; (3) ensure efficient recovery of debt which may mitigate negative impact on program subsidy rates; and (4) simplify the servicing process for the Agency and therefore minimize the financial burden and costs on borrowers.

The Agency provides forms and/or guidelines to assist in collection and submission of the information required to service loans. In some cases, use of Agency forms is optional and the borrower may submit the information required on other forms. The forms or related items completed by the borrower are submitted to and evaluated by the Agency. Failure to collect proper information from borrowers could result in improper determinations of servicing assistance, hinder the government's recovery of such loans as well as encumber customer service.

Description of Respondents: Business or other for-profit; Not for-profit institutions.

Number of Respondents: 5.

Frequency of Responses: Reporting: On occasion.

Total Burden Hours: 695.

Levi S. Harrell,
Departmental Information Collection Clearance Officer.

[FR Doc. 2024-05429 Filed 3-13-24; 8:45 am]

BILLING CODE 3410-15-P